DEPARTMENT OF ENERGY

10 CFR Part 430

[Docket No. EERE-2012-BT-STD-0045]

RIN 1904-AC87

Energy Efficiency Program for Consumer Products: Energy Conservation Standards for Ceiling Fans and Ceiling Fan Light Kits

AGENCY: Office of Energy Efficiency and Renewable Energy, Department of Energy.

ACTION: Notice of public meeting and availability of the Framework Document.

SUMMARY: The U.S. Department of Energy (DOE) is initiating the rulemaking and data collection process to consider amending the energy conservation standards for ceiling fans and ceiling fan light kits. DOE also plans to conduct a test procedure rulemaking for these products. To inform interested parties and to facilitate this process, DOE has prepared a Framework Document that details the analytical approach and scope of coverage for the rulemaking, and identifies several issues on which DOE is particularly interested in receiving comment. DOE will hold an informal public meeting to discuss and receive comments on its analytical approach and issues it will address in this rulemaking proceeding. DOE welcomes written comments and relevant data from the public on any subject within the scope of this rulemaking.

DATES: Meeting: DOE will hold a public meeting on Friday, March 22, 2013 from 9:00 a.m. to 2:00 p.m. in Washington, DC. Additionally, DOE plans to conduct the public meeting via webinar. You may attend the public meeting via webinar, and registration information, participant instructions, and information about the capabilities available to webinar participants will be published on DOE's Web site at: http://www1.eere.energy.gov/buildings/appliance_standards/rulemaking.aspx/ruleid/65 and http://www1.eere.energy.gov/buildings/appliance_standards/rulemaking.aspx/ruleid/66. Participants are responsible for ensuring that their systems are compatible with the webinar software.

DOE must receive requests to speak at the public meeting before 4:00 p.m. Friday, March 15, 2013. DOE must receive an electronic copy of the statement with the name and, if appropriate, the organization of the presenter to be given at the public meeting before 4:00 p.m., Friday, March 15, 2013.

Comments: DOE will accept written comments, data, and information regarding the Framework Document before and after the public meeting, but no later than April 29, 2013.

ADDRESSES: The public meeting will be held at the U.S. Department of Energy, Forrestal Building, Room 8E-089, 1000 Independence Avenue SW., Washington, DC 20585-0121. See, Public Participation in SUPPLEMENTARY INFORMATION for meeting details.

Interested parties are encouraged to submit comments electronically. However, commenters may be submitted by any of the following methods:

• Federal eRulemaking Portal: http://www.regulations.gov. Follow the instructions for submitting comments.

• Email: CeilingFanLightKits2012STD0045@ee.doe.gov. Include docket number EERE-2011-BT-STD-0045 and/or regulatory identification number (RIN) 1904-AC87 in the subject line of the message. All comments should clearly identify the name, address, and, if appropriate, organization of the commenter. Submit electronic comments in Word Perfect, Microsoft Word, PDF, or ASCII file format, and avoid the use of special characters or any form of encryption.

• Postal Mail: Ms. Brenda Edwards, U.S. Department of Energy, Building Technologies Program, Mailstop EE-2J, Framework Document for Ceiling Fans and Ceiling Fan Light Kits, Docket No. EERE-2010-BT-STD-0045 and/or RIN 1904-AC87, 1000 Independence Avenue SW., Washington, DC 20585-0121. If possible, please submit all items on a compact disc (CD), in which case it is not necessary to include printed copies.

• Hand Delivery/Courier: Ms. Brenda Edwards, U.S. Department of Energy, Building Technologies Program, Sixth Floor, 950 L'Enfant Plaza, SW., Washington, DC 20024. If possible, please submit all items on a CD, in which case it is not necessary to include printed copies.

Instructions: All submissions received must include the agency name and docket number and/or RIN for this rulemaking. No telefacsimilies (faxes) will be accepted.

Docket: The docket is available for review at www.regulations.gov, including Federal Register notices, public meeting attendee lists and transcripts, comments, and other supporting document/materials. All documents in the docket are listed in the www.regulations.gov index. However, not all documents listed in the index may be publicly available such as information that is exempt from public disclosure. A link to the docket Web page can be found at: www.regulations.gov/#!docketDetail;dct=FR%252BPR%252BN%252BO%252BSR%252BPS;rpp=25;po=25;D=EERE-2012-BT-STD-0045. This Web page contains a link to the docket for this notice on the www.regulations.gov Web site. The www.regulations.gov Web page contains simple instructions on how to access all documents, including public comments, in the docket.

For information on how to submit a comment, review other public comments and the docket, or participate in the public meeting, contact Ms. Brenda Edwards at (202) 586-2945 or by email: Brenda.Edwards@ee.doe.gov.

FOR FURTHER INFORMATION CONTACT: Ms. Lucy deButts, U.S. Department of Energy, Office of Energy Efficiency and Renewable Energy, Building Technologies Program, EE-2J, 1000 Independence Avenue SW., Washington, DC 20585-0121. Telephone: (202) 287-1604. Email: ceiling_fan_light_kits@ee.doe.gov.

Mr. Eric Stas, U.S. Department of Energy, Office of the General Counsel, GC-71, 1000 Independence Avenue SW., Washington, DC 20585-0121. Telephone: (202) 586-9507. Email: Eric.Stas@hq.doe.gov.

For information on how to submit or review public comments and on how to participate in the public meeting, contact Ms. Brenda Edwards, U.S. Department of Energy, Office of Energy Efficiency and Renewable Energy, Building Technologies Program, EE-2J, 1000 Independence Avenue SW., Washington, DC 20585-0121. Telephone (202) 586-2945. Email: Brenda.Edwards@ee.doe.gov.

SUPPLEMENTARY INFORMATION: Title III, Part B ¹ of the Energy Policy and Conservation Act of 1975 (EPCA or the Act), Public Law 94-163 (42 U.S.C. 6291-6309, as codified) sets forth a variety of provisions designed to improve energy efficiency and established the Energy Conservation Program for Consumer Products Other Than Automobiles, a program covering most major household appliances (collectively referred to as “covered products”).²

¹ For editorial reasons, upon codification in the U.S. Code, Part B was redesignated Part A.

² All references to EPCA in this document refer to the statute as amended through the American Manufacturing Technical Corrections Act (AEMTCA), Public Law 112-210 (Dec. 18, 2012).

These include the types of ceiling fans and ceiling fan light kits that are the subject of this rulemaking. (42 U.S.C. 6295(ff)) This program authorizes DOE to establish technologically feasible, economically justified energy efficiency regulations for certain products and equipment that would be likely to result in substantial national energy savings. (42 U.S.C. 6295(o)(2)(B)(i)(I)-(VII))

The Energy Policy Act of 2005 (EPACT 2005), Public Law 109-58, amended EPCA and established energy conservation standards for ceiling fans and ceiling fan light kits, as well as requirements for determining whether these standards should be amended. (42 U.S.C. 6295(ff)) Specifically, EPACT 2005 set design standards for ceiling fans and provided that DOE may consider and issue energy efficiency or energy use standards for electricity used by ceiling fans to circulate air in a room. (42 U.S.C. 6295(ff)(1) and (6)) For ceiling fan light kits, EPACT 2005 set energy conservation standards for ceiling fan light kits with medium screw base sockets, as well as pin-based sockets. (42 U.S.C. 6295(ff)(2)-(3)) The statute also directed DOE to consider and issue requirements for other types of ceiling fan light kits (including candelabra screw base sockets) by January 1, 2007, and if DOE failed to issue such standards by the date specified, the statute provided for an alternative set of requirements for ceiling fan light kits manufactured after January 1, 2010. (42 U.S.C. 6295(ff)) After January 1, 2010, DOE may again consider amended energy efficiency standards for ceiling fan light kits, standards that would apply to products manufactured not earlier than two years after the date of publication of the final rule. (42 U.S.C. 6295(ff)(5))

EPCA defines a “ceiling fan” as “a nonportable device that is suspended from a ceiling for circulating air via the rotation of fan blades” (42 U.S.C. 6291(49)), and it defines a “ceiling fan light kit” as “equipment designed to provide light from a ceiling fan that can be—(A) integral, such that the equipment is attached to the ceiling fan prior to the time of retail sale; or (B) attachable, such that at the time of retail sale the equipment is not physically attached to the ceiling fan, but may be included inside the ceiling fan at the time of sale or sold separately for subsequent attachment to the fan.” (42 U.S.C. 6291(50))

Under this statutory structure, DOE promulgated design standards for ceiling fans, performance standards for ceiling fan light kits and test procedures for both ceiling fans and ceiling fan light kits. In a final rule technical amendment published in the Federal Register on October 18, 2005, DOE codified the statutory design standards for ceiling fans and the performance standards for ceiling fan light kits in the CFR at 10 CFR 430.32(s). 70 FR 60407, 60413. An additional final rule technical amendment published in the Federal Register on January 11, 2007, codified standards for light kits with sockets other than medium-screw base or pin-based fluorescent lamps in the CFR. 72 FR 1270. In a final rule published in the Federal Register on December 8, 2006, DOE adopted test procedures for ceiling fans and ceiling fan light kits at 10 CFR part 430, subpart B, appendix U and appendix V, respectively. 71 FR 71340, 71366-67.

DOE is initiating this rulemaking pursuant to 42 U.S.C. 6295(ff)(5)-(6), which allows DOE to consider establishing or amending energy conservation standards for ceiling fans and ceiling fan light kits, and 42 U.S.C. 6295(r), which requires DOE to prescribe test procedures for new or amended energy conservation standards. In addition to considering the energy consumption of these products in active mode, 42 U.S.C. 6295(gg) requires DOE to consider the standby mode and off mode energy consumption of ceiling fans and ceiling fan light kits in amending both its test procedures and energy conservation standards.

To initiate the ceiling fan and ceiling fan light kit energy conservation standards rulemaking, DOE has prepared this Framework Document to explain the relevant issues, analyses, and processes it anticipates using in considering amended energy conservation standards for these products.

This Framework Document also includes DOE's preliminary review of relevant industry test procedures and testing methods used to characterize the performance of ceiling fans and ceiling fan light kits in all modes of operation. DOE has also included in this Framework Document a detailed summary of key issues that DOE is considering in developing its own test procedures and for use in developing energy conservation standards for ceiling fans and ceiling fan light kits. In addition, DOE has identified issues regarding the testing of ceiling fans and ceiling fan light kits on which it is seeking comment. DOE will consider the feedback received in response to this Framework Document in developing proposed test procedures for ceiling fans and ceiling fan light kits. DOE intends to issue a separate notice of proposed rulemaking (NOPR) addressing the test procedures for ceiling fans and ceiling fan light kits. When the test procedure final rule is published, DOE will have complied with the statutory requirements to review ceiling fan and ceiling fan light kit test procedures at least once every 7 years (42 U.S.C. 6293(b)(1)(A)) and to include where applicable, test procedures with new or amended energy conservation standards (42 U.S.C. 6295(r)).

The primary focus of the public meeting noted above will be to discuss the analyses presented and issues identified in the Framework Document. At the public meeting, DOE will make presentations and invite discussion on the rulemaking process as it applies to certain ceiling fans and ceiling fan light kits. DOE will also solicit comments, data, and information from participants and other interested parties. In addition, DOE will invite comment on its preliminary determination of the scope of coverage for the ceiling fan energy conservation standards and its preliminary analysis regarding the development of test procedures for ceiling fans and ceiling fan light kits.

DOE is planning to conduct in-depth technical analyses in the following areas: (1) Engineering; (2) energy-use characterization; (3) product price; (4) life-cycle cost and payback period; (5) national impacts; (6) manufacturer impacts; (7) utility impacts; (8) employment impacts; (9) emission impacts; and (10) regulatory impacts. DOE will also conduct several other analyses that support those previously listed, including the market and technology assessment, the screening analysis (which contributes to the engineering analysis), and the shipments analysis (which contributes to the national impact analysis).

Public Participation: DOE encourages those who wish to participate in the public meeting to obtain the Framework Document and be prepared to discuss its contents. A copy of the Framework Document is available at: http://www1.eere.energy.gov/buildings/appliance_standards/rulemaking.aspx/ruleid/65 and http://www1.eere.energy.gov/buildings/appliance_standards/rulemaking.aspx/ruleid/66.

Please note that foreign nationals planning to participate in the public meeting are subject to advance security screening procedures. If a foreign national wishes to participate in the public meeting, please inform DOE of this fact as soon as possible by contacting Ms. Brenda Edwards at (202) 586-2945 so that the necessary procedures can be completed. Please note that any person wishing to bring a laptop computer into the Forrestal Building will be required to obtain a property pass. Visitors should avoid bringing laptops, or allow an extra 45 minutes.

Public meeting participants need not limit their comments to the issues identified in the Framework Document. DOE is also interested in comments on other relevant issues that participants believe would affect energy conservation standards or energy use standards for these products, associated test procedures, or the preliminary determination on the scope of coverage. DOE invites all interested parties, whether or not they participate in the public meeting, to submit in writing by April 29, 2013, comments and information on matters addressed in the Framework Document and on other matters relevant to DOE's consideration of amended energy conservation standards for ceiling fans and ceiling fan light kits.

The public meeting will be conducted in an informal, facilitated, conference style. There shall be no discussion of proprietary information, costs or prices, market shares, or other commercial matters regulated by U.S. antitrust laws. A court reporter will record the proceedings of the public meeting, after which a transcript will be available for purchase from the court reporter and will be placed on the DOE Web site at: http://www1.eere.energy.gov/buildings/appliance_standards/rulemaking.aspx/ruleid/65 and http://www1.eere.energy.gov/buildings/appliance_standards/rulemaking.aspx/ruleid/66.

After the public meeting and the close of the comment period on the Framework Document, DOE will begin collecting data, conducting the analyses described in the Framework Document and at the public meeting, and reviewing the public comments. Those actions will assist in developing an energy conservation standards NOPR and separate test procedure NOPR for ceiling fans and ceiling fan light kits.

DOE considers public participation to be a vital part of the process for considering amended energy conservation standards. DOE actively encourages the participation and interaction of the public during the comment period established for each stage of the rulemaking process. Beginning with the Framework Document and during each subsequent public meeting and comment period, interactions with and among members of the public provide a balanced discussion of the issues and assist DOE in the standards rulemaking process. Accordingly, anyone who wishes to participate in the public meeting, receive meeting materials, or be added to the DOE mailing list to receive future notices and information about this rulemaking should contact Ms. Brenda Edwards at (202) 586-2945, or via email at Brenda.Edwards@ee.doe.gov.

Issued in Washington, DC, on March 8, 2013.
Kathleen B. Hogan,
Deputy Assistant Secretary for Energy Efficiency, Energy Efficiency and Renewable Energy.

[FR Doc. 2013-06019 Filed 3-14-13; 8:45 am]

BILLING CODE 6450-01-P